DEPARTMENT OF ENERGY

Federal Energy Regulatory Commission

Notice of Filing Deadline Extension for the FERC Form 714 “Annual Electric Balancing Authority Area and Planning Area Report” and Availability of Electronic Submission Software

May 18, 2007.

Take notice that the filing deadline for the FERC Form 714, reporting 2006 data, is extended to July 16, 2007, for all respondents. The extension is granted to allow the respondents additional time to prepare their initial electronic filing of the form. Electronic filing of Form 714 became mandatory on April 19, 2007, through Commission Order No. 695 (http://www.ferc.gov/whats-new/comm-meet/2007/041907/E-14.pdf).

Software, necessary for the submission of the form, is available for download free from the Commission's Web site at http://www.ferc.gov/docs-filing/eforms/form-714/elec-subm-soft.asp. A Personal Identification Number (PIN) is necessary to download the respondent's initial database and to use as an electronic signature in submitting Form 714 filings to the Commission. PINs will be e-mailed to each 2005 Form 714 contact person of record. Those who do not receive their PIN by close of business on May 23, 2007, should e-mail the legal name of the respondent and a contact person's name and E-mail address to form714@ferc.gov.

More information on the Form 714 filing requirements can be found on the Commission's Web site at http://www.ferc.gov/docs-filing/eforms.asp#714 and questions about the form can be e-mailed to form714@ferc.gov.

Kimberly D. Bose,
Secretary.

[FR Doc. E7-9985 Filed 5-23-07; 8:45 am]

BILLING CODE 6717-01-P